DEPARTMENT OF COMMERCE

International Trade Administration

[A-570-866]

Notice of Amended Final Determination of Sales at Less Than Fair Value: Certain Folding Gift Boxes From the People's Republic of China

AGENCY: Import Administration, International Trade Administration, Department of Commerce.

ACTION: Notice of amended final determination of sales at less than fair value.

EFFECTIVE DATE: December 5, 2001.

SUMMARY: We published in the Federal Register our final determination for the investigation of certain folding gift boxes from the People's Republic of China on November 20, 2001. See Notice of Final Determination of Sales at Less Than Fair Value: Certain Certain Folding Gift Boxes from the People's Republic of China, 66 FR 50408 (November 20, 2001). We are amending our final determination to correct ministerial errors discovered by Red Point Paper Products, Ltd.

FOR FURTHER INFORMATION CONTACT: Thomas Schauer or George Callen, Import Administration, International Trade Administration, U.S. Department of Commerce, 14th Street and Constitution Avenue, NW., Washington, DC 20230; telephone: (202) 482-0410 or (202) 482-0180, respectively.

Applicable Statute and Regulations

Unless otherwise indicated, all citations to the statute are references to the provisions effective January 1, 1995, the effective date of the amendments made to the Tariff Act of 1930 (the Tariff Act) by the Uruguay Round Agreements Act. In addition, unless otherwise indicated, all citations to the Department of Commerce's (the Department's) regulations refer to 19 CFR part 351 (2000).

Background

On November 13, 2001, the Department determined that certain folding gift boxes from the People's Republic of China are being, or are likely to be, sold in the United States at less than fair value (LTFV), as provided in section 735(a) of the Tariff Act. See Notice of Final Determination of Sales at Less Than Fair Value: Certain Certain Folding Gift Boxes from the People's Republic of China, 66 FR 50408 (November 20, 2001) (Final Determination). On November 19, 2001, respondent Red Point Paper Products Ltd. (Red Point) timely filed an allegation that the Department had made two ministerial errors in its final determination.

Red Point's submission alleges the following errors: (1) The Department inadvertently used the value of labor for 1998 rather than 1999 as published on the Department's web site, and (2) the Department inadvertently deducted movement expenses incurred by Red Point's unaffiliated customer from the export price.

On November 26, 2001, Harvard Folding Box Company and Field Container Company, LP (collectively, the petitioners), submitted comments rebutting Red Point's ministerial-error allegations. The petitioners argue that Red Point's allegations are untimely arguments for methodological changes rather than ministerial-error allegations. With regard to labor valuation, the petitioners argue that Red Point's allegation is an untimely argument as to which surrogate value the Department should use to value labor inputs. With regard to movement expenses, the petitioners contend that the Department used the same methodology in the Final Determination as it used in the Preliminary Determination and that Red Point did not comment upon the Department's deduction of these movement expenses in its case brief. The petitioners contend that Red Point is asking the Department, under the guise of correcting a ministerial error, to change a clearly articulated methodology and argue that the Department should not do so because the alleged errors were methodological choices, not ministerial errors.

No other party alleged that there were ministerial errors in the Final Determination or commented about Red Point's allegations.

Scope of the Investigation

The products covered by this investigation are certain folding gift boxes. Certain folding gift boxes are a type of folding or knock-down carton manufactured from paper or paperboard. Certain folding gift boxes are produced from a variety of recycled and virgin paper or paperboard materials, including, but not limited to, clay-coated paper or paperboard and kraft (bleached or unbleached) paper or paperboard. The scope of the investigation excludes gift boxes manufactured from paper or paperboard of a thickness of more than 0.8 millimeters, corrugated paperboard, or paper mache. The scope of the investigation also excludes those gift boxes for which no side of the box, when assembled, is at least nine inches in length.

Certain folding gift boxes are typically decorated with a holiday motif using various processes, including printing, embossing, debossing, and foil stamping, but may also be plain white or printed with a single color. The subject merchandise includes certain folding gift boxes, with or without handles, whether finished or unfinished, and whether in one-piece or multi-piece configuration. One-piece gift boxes are die-cut or otherwise formed so that the top, bottom, and sides form a single, contiguous unit. Two-piece gift boxes are those with a folded bottom and a folded top as separate pieces. Certain folding gift boxes are generally packaged in shrink-wrap, cellophane, or other packaging materials, in single or multi-box packs for sale to the retail customer. The scope of the investigation excludes folding gift boxes that have a retailer's name, logo, trademark or similar company information printed prominently on the box's top exterior (such folding gift boxes are often known as “not-for-resale” gift boxes or “give-away” gift boxes and may be provided by department and specialty stores at no charge to their retail customers). The scope of the investigation also excludes folding gift boxes where both the outside of the box is a single color and the box is not packaged in shrink-wrap, cellophane, other resin-based packaging films, or paperboard.

Imports of the subject merchandise are currently classified under Harmonized Tariff Schedule of the United States (HTSUS) subheadings 4819.20.00.40 and 4819.50.40.60. These subheadings also cover products that are outside the scope of this investigation. Furthermore, although the HTSUS subheadings are provided for convenience and customs purposes, our written description of the scope of this investigation is dispositive.

Ministerial Error

The Department's regulations define a ministerial error as one involving “addition, subtraction, or other arithmetic function, clerical error resulting from inaccurate copying, duplication or the like, and any other similar type of unintentional error which the Secretary considers ministerial.” See 19 CFR 351.224(f).

After reviewing Red Point's allegations we have determined, in accordance with 19 CFR 351.224, that the Final Determination includes ministerial errors. We agree with Red Point that we should not have deducted the movement expenses incurred by Red Point's unaffiliated customer. These expenses, which include international freight, marine insurance, U.S. inland freight, U.S. brokerage & handling expenses, and U.S. Customs duties, were incurred by Lindy Bowman, not Red Point. See Red Point verification report dated September 13, 2001, at page 7 and Lindy Bowman verification report dated September 17, 2001, at page 4. We should have only deducted those movement expenses incurred by Red Point, not those incurred by its U.S. customer. Contrary to the petitioners' assertion, this constitutes an unintentional error on our part. Accordingly, we have corrected this ministerial error.

We also agree with Red Point that we inadvertently used the labor value for 1998 in the Final Determination. The labor value for 1999 to which Red Point refers was published on the Department's website in September 2001 and, therefore, was available for our use in the Final Determination. See http://ia.ita.doc.gov/wages/. Furthermore, we disagree with the petitioners' characterization that Red Point's allegation is an untimely argument as to which surrogate value the Department should use for labor. The Department develops the surrogate value for the applicable labor calculations; it is not submitted by interested parties (as are most surrogate values). Finally, the revised labor rate corresponds more closely in time with the period of investigation than the surrogate value we used in the Preliminary Determination. Thus, we should have used the revised surrogate value for labor in the Final Determination. Our use of the same labor rate we used in the Preliminary Determination was unintentional. Accordingly, we have corrected this ministerial error.

Amended Final Determination

In accordance with 19 CFR 351.224(e), we are amending the final determination of the antidumping duty investigation of certain folding gift boxes from the People's Republic of China. For this amended final determination, we did not deduct the aforementioned movement expenses incurred by Lindy Bowman from the U.S. price and we have used the revised surrogate value for labor. The revised final weighted-average dumping margins for Red Point is 8.90 percent. The weighted-average dumping margins for all other companies remain unchanged.

Suspension of Liquidation

In accordance with section 735(c)(1)(B) of the Tariff Act, we are directing the United States Customs Service (Customs) to continue suspending liquidation on all imports of the subject merchandise from the People's Republic of China. Customs shall require a cash deposit or the posting of a bond equal to the weighted-average amount by which normal value exceeds the export price as indicated in the chart above. These suspension-of-liquidation instructions will remain in effect until further notice.

International Trade Commission Notification

In accordance with section 735(d) of the Tariff Act, we have notified the International Trade Commission of our amended final determination.

This determination is issued and published in accordance with section 735(d) and 777(i)(1) of the Tariff Act of 1930, as amended.

Dated: November 29, 2001.
Richard W. Moreland,
Acting Assistant Secretary for Import Administration.

[FR Doc. 01-30169 Filed 12-4-01; 8:45 am]

BILLING CODE 3510-DS-P